NUCLEAR REGULATORY COMMISSION

[Docket Nos. 50-424 and 50-425; NRC-2009-0237]

Southern Nuclear Operating Co., Inc., Georgia Power Company, Oglethorpe Power Corporation, Municipal Electric Authority of Georgia: City of Dalton, Georgia Vogtle Electric Generating Plant, Units 1 and 2; Notice of Issuance of Renewed Facility Operating License Nos. NPF-68 and NPF-81 for an Additional 20-Year Period Record of Decision

Notice is hereby given that the U.S. Nuclear Regulatory Commission (NRC or the Commission) has issued Renewed Facility Operating License Nos. NPF-68 and NPF-81 to Southern Nuclear Operating Company, Inc. (licensee), Georgia Power Company, Oglethorpe Power Corporation, Municipal Electric Authority of Georgia, and City of Dalton, Georgia, co-owners of the Vogtle Electric Generating Plant (VEGP), Units 1 and 2. Renewed Facility Operating License Nos. NPF-68 and NPF-81 authorize operation of VEGP by the licensee at reactor core power levels not in excess of 3,625.6 megawatts thermal for each unit, in accordance with the provisions of the VEGP renewed licenses and their technical specifications.

This notice also serves as the record of decision for the renewal of Facility Operating License Nos. NPF-68 and NPF-81 for VEGP, consistent with Title 10 of the Code of Federal Regulations (10 CFR) Section 51.103, “Record of Decision-General.” As discussed in the final supplemental environmental impact statement for VEGP (NUREG-1437, “Generic Environmental Impact Statement for License Renewal of Nuclear Plants,” Supplement 34, “Vogtle Electric Generating Plant, Units 1 and 2,” issued December 2008), the Commission considered a range of reasonable alternatives that included power generation from coal, natural gas, oil, wind, solar, hydropower, geothermal, wood waste, municipal solid waste, and other biomass-derived fuels; delayed retirement; utility-sponsored conservation, and a combination of alternatives, including a no-action alternative. The factors considered in the record of decision appear in Supplement 34.

VEGP is a dual-unit pressurized-water reactor designed by Westinghouse Electric Corporation that is located in Wayne County, GA. The site is located approximately 25 miles south of Augusta, GA. The application for the renewed licenses complied with the standards and requirements of the Atomic Energy Act of 1954, as amended (the Act), and the Commission's regulations. As required by the Act and the Commission's regulations in 10 CFR Chapter I, the Commission has made appropriate findings, which the license sets forth.

Prior public notice of the action involving the proposed issuance of the renewed license and of an opportunity for a hearing regarding the proposed issuance of the renewed license was published in the Federal Register on August 21, 2007 (72 FR 46680). For further details with respect to this action, see (1) the Southern Nuclear Operating Company, Inc., Oglethorpe Power Corporation, Municipal Electric Authority of Georgia, and City of Dalton, Georgia, license renewal application for VEGP, Units 1 and 2, dated June 29, 2007, as supplemented by letters dated through February 16, 2009, (2) the Commission's safety evaluation report (NUREG-1920, “Safety Evaluation Report Related to the License Renewal of the Vogtle Electric Generating Plant, Units 1 and 2,” Volumes 1 and 2, issued April 2009), (3) the licensee's updated safety analysis report, and (4) the Commission's final environmental impact statement (NUREG-1437, Supplement 34). These documents are available at the NRC Public Document Room, One White Flint North, 11555 Rockville Pike, Rockville, MD 20852, and can be viewed from the NRC Public Electronic Reading Room at http://www.nrc.gov/reading-rm/adams.html.

Copies of Renewed Facility Operating License Nos. NPF-68 and NPF-81 may be obtained by writing to the U.S. Nuclear Regulatory Commission, Washington, DC 20555-0001, Attention: Director, Division of License Renewal. Copies of the safety evaluation report for VEGP Units 1 and 2 (NUREG-1920, Volumes 1 and 2) and the final environmental impact statement (NUREG-1437, Supplement 34) may be purchased from the National Technical Information Service, U.S. Department of Commerce, Springfield, VA 22161-0002 (http://www.ntis.gov), 703-605-6000; or from the Superintendent of Documents, U.S. Government Printing Office, P.O. Box 371954, Pittsburgh, PA 15250-7954 (http://www.gpoaccess.gov), 202-512-1800. All orders should clearly identify the NRC publication number and the requester's Government Printing Office deposit account number or a VISA or MasterCard number and expiration date.

Dated at Rockville, MD, this 3rd day of June 2009.
For the Nuclear Regulatory Commission.
David L. Pelton,
Chief, Reactor Projects Branch 1, Division of License Renewal, Office of Nuclear Reactor Regulation.

[FR Doc. E9-13821 Filed 6-11-09; 8:45 am]

BILLING CODE 7590-01-P